DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Mitigation Division, Emergency Preparedness and Response Directorate, Federal Emergency Management Agency, 500 C Street SW., Washington, DC 20472, (202) 646-2903.

SUPPLEMENTARY INFORMATION: Federal Emergency Management Agency makes the final determinations listed below of the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFEs determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implication under Executive Order 12612, Federalism, dated October 26, 1987.

Executive Order 12778, Civil Justice Reform. This rule meets the applicable standards of section 2(b)(2) of Executive Order 12778.

List of Subjects in 44 CFR Part 65

Flood insurance, Floodplains, Reporting and Recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Arizona:
Gila (FEMA Docket No.: B-7438) | City of Globe (03-09-0187P) | June 18, 2003, June 25, 2003, Arizona Silver Belt | The Honorable Stanley Gibson, Mayor, City of Globe, 150 North Pine Street, Globe, Arizona 85501 | September 24, 2003 | 040029
Gila (FEMA Docket No.: B-7438) | Unincorporated Areas (03-09-0187P) | June 18, 2003, June 25, 2003, Arizona Silver Belt | The Honorable Cruz Salas, Chairman, Gila County Board of Supervisors, 1400 East Ash Street, Globe, Arizona 85501 | September 24, 2003 | 040028
Maricopa (FEMA Docket No.: B-7438) | City of Avondale (02-09-190P) | May 29, 2003, June 5, 2003, Arizona Republic | The Honorable Ronald J. Drake, Mayor, City of Avondale, 325 North Central Avenue, Avondale, Arizona 85323 | May 22, 2003 | 040038
Maricopa (FEMA Docket No.: B-7438) | Town of Buckeye (03-09-0245P) | June 19, 2003, June 26, 2003, Arizona Republic | The Honorable Dusty Hull, Mayor, Town of Buckeye, 100 North Apache Road, Suite A, Buckeye, Arizona 85326 | May 22, 2003 | 040039
Maricopa (FEMA Docket No.: B-7438) | City of Chandler (03-09-0353P) | May 29, 2003, June 5, 2003, Arizona Business Gazette | The Honorable Boyd Dunn, Mayor, City of Chandler, 55 North Arizona Place, Suite 301, Chandler, Arizona 85225 | May 7, 2003 | 040040
Maricopa (FEMA Docket No.: B-7438) | City of El Mirage (02-09-945P) | May 22, 2003, May 29, 2003, Arizona Republic | The Honorable Robert Robles, Mayor, City of El Mirage, P.O. Box 26, El Mirage, Arizona 85335 | August 28, 2003 | 040041
Maricopa (FEMA Docket No.: B-7438) | Town of Gila Bend (02-09-858P) | July 3, 2003, July 10, 2003, Arizona Business Gazette | The Honorable Chuck Turner, Mayor, Town of Gila Bend, P.O. Box A, Gila Bend, Arizona 85337 | October 9, 2003 | 040043
Maricopa (FEMA Docket No.: B-7438) | City of Phoenix (03-09-0290P) | June 12, 2003, June 19, 2003, Arizona Business Gazette | The Honorable Skip Rimsza, Mayor, City of Phoenix, 200 West Washington Street, 11th Floor, Phoenix, Arizona 85003-1611 | May 29, 2003 | 040051
Maricopa (FEMA Docket No.: B-7438) | City of Surprise (02-09-945P) | May 22, 2003, May 29, 2003, Arizona Republic | The Honorable Joan H. Shafer, Mayor, City of Surprise, 12425 West Bell Road, Suite D-100, Surprise, Arizona 85374 | August 28, 2003 | 040053
Maricopa (FEMA Docket No.: B-7438) | Unincorporated Areas (02-09-945P) | May 22, 2003, May 29, 2003, Arizona Republic | The Honorable R. Fulton Brock, Chairman, Maricopa County Board of Supervisors, 301 West Jefferson, 10th Floor, Phoenix, Arizona 85003 | August 28, 2003 | 040037
Maricopa (FEMA Docket No.: B-7438) | Unincorporated Areas (02-09-858P) | July 3, 2003, July 10, 2003, Arizona Business Gazette | The Honorable Don Stapley, Chairman, Maricopa County Board of Supervisors, 301 West Jefferson, 10th Floor, Phoenix, Arizona 85003 | October 9, 2003 | 040037
Maricopa (FEMA Docket No.: B-7438) | Town of Youngtown (03-09-1014X) | May 22, 2003, May 29, 2003, Arizona Republic | The Honorable Bryan Hackbarth, Mayor, Town of Youngtown, 12030 Clubhouse Square, Youngtown, Arizona 85363 | August 28, 2003 | 040057
Pima (FEMA Docket No.: B-7438) | City of Tucson (02-09-873P) | July 17, 2003, July 24, 2003, Daily Territorial | The Honorable Bob Walkup, Mayor, City of Tucson, City Hall, 255 West Alameda Street, Tucson, Arizona 85701 | October 23, 2003 | 040076
Pima (FEMA Docket No.: B-7438) | Unincorporated Areas (03-09-0541P) | June 19, 2003, June 26, 2003, Arizona Daily Star | The Honorable Ray Carroll Republican County Supervisor, Pima County District Four, 130 West Congress Street, 11th Floor, Tucson, Arizona 85701 | September 25, 2003 | 040073
California:
Contra Costa (FEMA Docket No.: B-7438) | City of Clayton (03-09-0387P) | May 29, 2003, June 5, 2003, Contra Costa Times | The Honorable Gregory J. Manning, Mayor, City of Clayton, City Hall, 6000 Heritage Trail, Clayton, California 94517 | May 9, 2003 | 060027
Los Angeles (FEMA Docket No.: B-7438) | Unincorporated Areas (02-09-404P) | May 22, 2003, May 29, 2003, Los Angeles Times | The Honorable Yvonne B. Burke, Chair, Los Angeles County Board of Supervisors, 500 West Temple Street, Los Angeles, California 90012 | April 21, 2003 | 065043
Placer (FEMA Docket No.: B-7438) | City of Rocklin (02-09-810P) | May 7, 2003, May 14, 2003, The Rocklin | The Honorable Kathy Lund, Mayor, City of Rocklin, 3970 Rocklin Road, Rocklin, California 95677-2720 | August 13, 2003 | 060242
Placer (FEMA Docket No.: B-7438) | Unincorporated Areas (02-09-810P) | May 7, 2003, May 14, 2003, The Rocklin | The Honorable Rex Bloomfield, Chairman, Placer County Board of Supervisors, 175 Fulweiler Avenue, Auburn, California 95603 | August 13, 2003 | 060239
Sacramento (FEMA Docket No.: B-7438) | Unincorporated Areas (03-09-0080P) | May 8, 2003, May 15, 2003, Daily Recorder | The Honorable Illa Collin, Chair, Sacramento County Board of Supervisors, 700 H Street, Room 2450, Sacramento, California 95814 | August 14, 2003 | 060262
San Diego (FEMA Docket No.: B-7438) | City of San Diego (03-09-0578P) | June 26, 2003, July 3, 2003, San Diego Union-Tribune | The Honorable Richard M. Murphy, Mayor, City of San Diego, 202 C Street, 11th Floor, San Diego, California 92101 | June 9, 2003 | 060295
San Diego (FEMA Docket No.: B-7438) | City of San Marcos (03-09-0123P) | April 24, 2003, May 1, 2003, The Paper | The Honorable F. H. “Corky” Smith, Mayor, City of San Marcos, One Civic Center Drive, San Marcos, California 92069-2949 | July 31, 2003 | 060296
Santa Barbara (FEMA Docket No.: B-7438) | City of Solvang (02-09-1302P) | May 29, 2003, June 5, 2003, Santa Barbara News Press | The Honorable Beverly Russ, Mayor, City of Solvang, P.O. Box 107, Solvang, California 93464-0107 | May 7, 2003 | 060756
Santa Barbara (FEMA Docket No.: B-7438) | Unincorporated Areas (02-09-179P) | July 3, 2003, July 10, 2003, Santa Barbara News Press | The Honorable Naomi Schwartz, Chair, Santa Barbara County Board of Supervisors, 105 East Anapamu Street, Santa Barbara, California 93101 | October 9, 2003 | 060331
Santa Cruz (FEMA Docket No.: B-7438) | Unincorporated Areas (03-09-0475P) | May 8, 2003, May 15, 2003, Register-Pajaronian | The Honorable Ellen Pirie, Chair, Santa Cruz County Board of Supervisors, 701 Ocean Street, Room 500, Santa Cruz, California 95060 | August 14, 2003 | 060353
Santa Cruz (FEMA Docket No.: B-7438) | City of Watsonville (03-09-0475P) | May 8, 2003, May 15, 2003, Register-Pajaronian | The Honorable Richard de la Paz, Jr., Mayor, City of Watsonville, Administration Building, Second Foor 215 Union Street, Watsonville, California 95076 | August 14, 2003 | 060357
Colorado
Adams (FEMA Docket No.: B-7438) | Unincorporated Areas (03-08-0104P) | May 14, 2003, May 21, 2003, Brighton Standard-Blade | The Honorable Elaine T. Valente, Chairman, Adams County Board of Commissioners, 450 South Fourth Avenue, Brighton, Colorado 80601 | August 20, 2003 | 080001
Arapahoe (FEMA Docket No.: B-7438) | City of Littleton (03-08-0030P) | May 22, 2003, May 29, 2003, Littleton Independent | The Honorable Susan M. Thornton, Mayor, City of Littleton, 2255 West Berry Avenue, Littleton, Colorado 80165 | August 28, 2003 | 080017
Broomfield (FEMA Docket No.: B-7438) | City and County of Broomfield (03-08-0061P) | June 19, 2003, June 26, 2003, Boulder Daily Camera | The Honorable Karen Stuart, Mayor, City and County of Broomfield, One DesCombes Drive, Broomfield, Colorado 80020 | September 25, 2003 | 085073
Broomfield (FEMA Docket No.: B-7438) | City and County of Broomfield (03-08-0270P) | July 16, 2003, July 23, 2003, Broomfield Enterprise | The Honorable Karen Stuart, Mayor, City and County of Broomfield, One DesCombes Drive, Broomfield, Colorado 80020 | June 27, 2003 | 085073
Denver (FEMA Docket No.: B-7438) | City and County of Denver (03-08-0210P) | May 15, 2003, May 22, 2003, Denver Post | The Honorable John W. Hickenlooper, Mayor, City and County of Denver, 1437 Bannock Street, Suite 350, Denver, Colorado 80202 | April 24, 2003 | 080046
Adams Arapahoe Denver (FEMA Docket No.: B-7438) | City of Aurora (03-08-0210P) | May 15, 2003, May 22, 2003, Denver Post | The Honorable Paul E. Tauer, Mayor, City of Aurora, 15151 East Alameda Parkway, Fifth Floor, Aurora, Colorado 80012 | April 24, 2003 | 080002
Douglas (FEMA Docket No.: B-7438) | Town of Parker (02-08-186P) | April 23, 2003, April 30, 2003, Douglas County News-Press | The Honorable Gary Lasater, Mayor, Town of Parker, 20120 East Mainstreet, Parker, Colorado 80138-7334 | July 30, 2003 | 080310
Douglas (FEMA Docket No.: B-7438) | Unincorporated Areas (02-08-186P) | April 23, 2003, April 30, 2003, Douglas County News-Press | The Honorable James R. Sullivan, Chairman, Douglas County Board of Commissioners, 100 Third Street, Castle Rock, Colorado 80104 | July 30, 2003 | 080049
Douglas (FEMA Docket No.: B-7438) | Unincorporated Areas (03-08-0096P) | April 23, 2003, April 30, 2003, Douglas County News-Press | The Honorable James R. Sullivan, Chairman, Douglas County Board of Commissioners, 100 Third Street, Castle Rock, Colorado 80104 | July 30, 2003 | 080049
El Paso (FEMA Docket No.: B-7438) | City of Colorado Springs (02-08-394P) | April 24, 2003, May 1, 2003, The Gazette | The Honorable Lionel Rivera, Mayor, City of Colorado Springs, P.O. Box 1575, Colorado Springs, Colorado 80901 | July 31, 2003 | 080060
El Paso (FEMA Docket No.: B-7438) | City of Colorado Springs (03-08-0223P) | June 5, 2003, June 12, 2003, The Gazette | The Honorable Lionel Rivera, Mayor, City of Colorado Springs, P.O. Box 1575, Colorado Springs, Colorado 80901 | May 13, 2003 | 080060
Jefferson (FEMA Docket No.: B-7438) | Unincorporated Areas (03-08-0099P) (03-08-0456P) | March 19, 2003, March 26, 2003, Canyon Courier | The Honorable Richard M. Sheehan, Chairman, Jefferson County Board of Commissioners, 100 Jefferson County Parkway, Golden, Colorado 80419 | June 26, 2003 | 080087
Hawaii:
Hawaii (FEMA Docket No.: B-7438) | Hawaii County (02-09-368P) | July 10, 2003, July 17, 2003, Hawaii Tribune Herald | The Honorable Harry Kim, Mayor, County of Hawaii, 25 Aupuni Street, Hilo, Hawaii 96720 | October 16, 2003 | 155166
Maui (FEMA Docket No.: B-7438) | Maui County (03-09-0116P) | May 29, 2003, June 5, 2003, Maui News | The Honorable Alan M. Arakawa, Mayor, Maui County, 200 South High Street, Wailuku, Hawaii 96793 | May 6, 2003 | 150003
Maui (FEMA Docket No.: B-7438) | Maui County (03-09-0107P) | July 3, 2003, July 10, 2003, Maui News | The Honorable Alan M. Arawaka, Mayor, Maui County, 200 South High Street, Wailuku, Hawaii 96793 | June 13, 2003 | 150003
Idaho:
Bonneville (FEMA Docket No.: B-7438) | City of Ammon (03-10-0229P) | July 3, 2003, July 10, 2003, Post Register | The Honorable Bruce Ard, Mayor, City of Ammon, 2135 South Ammon Road, Ammon, Idaho 83406 | June 13, 2003 | 160028
Bonneville (FEMA Docket No.: B-7438) | Unincorporated Areas (03-10-0229P) | July 3, 2003, July 10, 2003, Post Register | The Honorable Lee Stake, Chairman, Bonneville County Board of Commissioners, 605 North Capital Avenue, Idaho Falls, Idaho 83402 | June 13, 2003 | 160027
Nevada:
Independent City (FEMA Docket No.: B-7438) | City of Carson City (01-09-592P) | June 19, 2003, June 26, 2003, Nevada Appeal | The Honorable Ray Masayko Mayor, City of Carson City 201 North Carson Street, Suite 2 Carson City, Nevada 89701 | May 29, 2003 | 320001
Clark (FEMA Docket No: B-7438) | City of Henderson (03-09-0861X) (03-09-980X) | May 1, 2003, May 8, 2003, Las Vegas Review-Journal | The Honorable James Gibson Mayor, City of Henderson 240 South Water Street Henderson, Nevada 89015 | April 21, 2003 | 320005
Clark (FEMA Docket No.: B-7438) | Unincorporated Areas (02-09-1071P) | April 24, 2003, May 1, 2003, Las Vegas Review-Journal | The Honorable Mary J. Kincaid-Chauncey Chair, Clark County Board of Commissioners 500 South Grand Central Parkway Las Vegas, Nevada 89155 | July 31, 2003 | 320003
Clark (FEMA Docket No.: B-7438) | Unincorporated Areas (03-09-0861X) (03-09-980X) | May 1, 2003, May 8, 2003, Las Vegas Review-Journal | The Honorable Mary J. Kincaid-Chauncey Chair, Clark County Board of Commissioners 500 South Grand Central Parkway Las Vegas, Nevada 89155 | April 21, 2003 | 320003
Clark (FEMA Docket No.: B-7438) | Unicorporated Areas (02-09-718P) | July 10, 2003, July 17, 2003, Las Vegas Review-Journal | The Honorable Mary J. Kincaid-Chauncey Chair, Clark County Board of Commissioners 500 South Grand Central Parkway Las Vegas, Nevada 89155 | June 19, 2003 | 320003
Texas:
Dallas (FEMA Docket No.: B-7438) | City of Dallas (00-06-248P) | January 31, 2002, February 7, 2002, Dallas Morning News | The Honorable Ron Kirk Mayor, City of Dallas 1500 Marilla Street Dallas, Texas 75201 | November 8, 2000 | 480171

(Catalog of Federal Domestic Assistance No. 83.100, “Flood Insurance.”)
Dated: March 9, 2004.
Anthony S. Lowe,
Mitigation Division Director, Emergency Preparedness and Response Directorate.

[FR Doc. 04-6180 Filed 3-18-04; 8:45 am]

BILLING CODE 9110-11-P